DEPARTMENT OF HEALTH AND HUMAN SERVICES

Administration for Children and Families

Proposed Information Collection Activity; National Survey of Child and Adolescent Well-Being-Third Cohort (NSCAW III) (OMB #0970-0202)

AGENCY: Office of Planning, Research, and Evaluation (OPRE); Administration for Children and Families; Department of Health and Human Services (HHS).

ACTION: Request for public comment.

SUMMARY: The Administration for Children and Families (ACF), within the U.S. Department of Health and Human Services (HHS), is proposing to collect data on the child welfare workforce as part of the third cohort of children and families for the National Survey of Child and Adolescent Well-Being (NSCAW III). Previous and current data collections for NSCAW have been approved by OMB under OMB #0970-0202. This request is for additional data collection.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent directly to the following: Office of Management and Budget, Paperwork Reduction Project, Email: OIRA_SUBMISSION@OMB.EOP.GOV, Attn: Desk Officer for the Administration for Children and Families.

Copies of the proposed collection may be obtained by emailing OPREinfocollection@acf.hhs.gov. Alternatively, copies can also be obtained by writing to the Administration for Children and Families, Office of Planning, Research, and Evaluation, 330 C Street SW, Washington, DC 20201, Attn: OPRE Reports Clearance Officer. All requests, emailed or written, should be identified by the title of the information collection.

SUPPLEMENTARY INFORMATION: Description: NSCAW is the only source of nationally representative, longitudinal, firsthand information about the functioning and well-being, service needs, and service utilization of children and families who come to the attention of the child welfare system.

OMB previously approved data collection under OMB Control Number 0970-0202 for NSCAW. The Phase I submission, approved November 2016, included recruitment and sampling process data collection activities. The Phase II submission, approved July 2017, included baseline and 18-month follow-up data collection activities.

The proposed new data collection activities will provide national representative data on the characteristics and activities of the workforce in child welfare agencies participating in NSCAW III. Surveys will collect information on workforce characteristics and competencies, training and professional development opportunities, and organizational and agency factors. The surveys will also collect information about the potential impacts of the COVID-19 pandemic on child welfare agency staff and practice.

Respondents: The respondents are agency directors, supervisors, and caseworkers. All surveys will be conducted in-person.

Annual Burden Estimates
Instrument | Total number of respondents | Annual number of respondents | Number of responses per respondent | Average burden hours per response | Annual burden hours
Agency Director Survey | 56 | 19 | 1 | .58 | 11
Supervisor Survey | 130 | 43 | 1 | .58 | 25
Caseworker Survey | 390 | 130 | 1 | .83 | 108

Estimated Total Annual Burden Hours: 144.

Authority: 42 U.S.C. 628b; Continuing Appropriations Act of 2020.

Mary B. Jones,
ACF/OPRE Certifying Officer.

[FR Doc. 2020-13856 Filed 6-26-20; 8:45 am]

BILLING CODE 4184-01-P